DEPARTMENT OF THE INTERIOR

Fish and Wildlife Service

[FWS-HQ-IA-2014-N261: FXIA16710900000-156-FF09A30000]

Endangered Species; Marine Mammals; Issuance of Permits

AGENCY: Fish and Wildlife Service, Interior.

ACTION: Notice of issuance of permits.

SUMMARY: We, the U.S. Fish and Wildlife Service (Service), have issued the following permits to conduct certain activities with endangered species, marine mammals, or both. We issue these permits under the Endangered Species Act (ESA) and Marine Mammal Protection Act (MMPA).

ADDRESSES: Brenda Tapia, U.S. Fish and Wildlife Service, Division of Management Authority, Branch of Permits, MS: IA, 5275 Leesburg Pike, Falls Church, VA 22041; fax (703) 358-2281; or email DMAFR@fws.gov.

FOR FURTHER INFORMATION CONTACT: Brenda Tapia, (703) 358-2104 (telephone); (703) 358-2281 (fax); DMAFR@fws.gov (email).

SUPPLEMENTARY INFORMATION: On the dates below, as authorized by the provisions of the ESA (16 U.S.C. 1531 et seq.), as amended, and/or the MMPA, as amended (16 U.S.C. 1361 et seq.), we issued requested permits subject to certain conditions set forth therein. For each permit for an endangered species, we found that (1) The application was filed in good faith, (2) The granted permit would not operate to the disadvantage of the endangered species, and (3) The granted permit would be consistent with the purposes and policy set forth in section 2 of the ESA.

Endangered Species
Permit No. | Applicant | Receipt of application Federal Register notice | Permit issuance date
45388B | Michael Telich | 79 FR 57968; September 26, 2014 | December 2, 2014.
44170B | Brian Quaca | 79 FR 60182; October 6, 2014 | November 25, 2014.
44172B | Matthew McCann | 79 FR 60182; October 6, 2014 | November 25, 2014.
45002B | Utah's Hogle Zoo | 79 FR 60182; October 6, 2014 | November 26, 2014.
42675B | Clyde Peeling's Reptiland | 79 FR 62662; October 20, 2014 | December 9, 2014.
42547B | Steve Martin's Natural Encounters, Inc | 79 FR 62662; October 20, 2014 | December 10, 2014.
47544B | Tracey Cearley | 79 FR 63639; October 24, 2014 | December 24, 2014.
45536B | Wildlife Conservation Society | 79 FR 65980; November 6, 2014 | December 11, 2014.
44272A | Lim Morakod | 79 FR 68461; November 17, 2014 | December 22, 2014.

Marine Mammals
Permit No. | Applicant | Receipt of application Federal Register notice | Permit issuance date
032027 | Monterey Bay Aquarium | 78 FR 52966; August 27, 2013 | December 19, 2014.
101713 | The Marine Mammal Center | 78 FR 65352; October 31, 2013 | December 19, 2014.
38835B | Christopher Marshall, Texas A&M University | 79 FR 63639; October 24, 2014 | December 3, 2014.

Availability of Documents

Documents and other information submitted with these applications are available for review, subject to the requirements of the Privacy Act and Freedom of Information Act, by any party who submits a written request for a copy of such documents to: U.S. Fish and Wildlife Service, Division of Management Authority, Branch of Permits, MS: IA, 5275 Leesburg Pike, Falls Church, VA 22041; fax (703) 358-2281.

Brenda Tapia,
Program Analyst/Data Administrator, Branch of Permits, Division of Management Authority.

[FR Doc. 2014-30805 Filed 1-2-15; 8:45 am]

BILLING CODE 4310-55-P